DEPARTMENT OF TRANSPORTATION

National Highway Traffic Safety Administration

Reports, Forms and Record Keeping Requirements; Agency Information Collection Activity Under OMB Review

AGENCY: National Highway Traffic Safety Administration, DOT.

ACTION: Emergency Federal Register Notice.

SUMMARY: The Department of Transportation has submitted the following request for emergency processing of a public information collection to the Office of Management and Budget for review and clearance under the Paperwork Reduction Act of 1995 (Pub. L. 104-13, 44 U.S.C. Chapter 35.) This notice announces that the Information Collection Request (ICR) abstracted below has been forwarded to the Office of Management and Budget (OMB) for review and comment. The ICR describes the nature of the information collections and their expected burden.

Comments: Comments should be directed to the Office of Information and Regulatory Affairs, Office of Management and Budget, 725-17th Street, NW, Washington, DC 20503, Attention NHTSA Desk Officer.

Type of Request: New.

Form Number: This proposed collection of information would not use any standard forms.

DATES: OMB approval has been requested by January 30, 2001.

FOR FURTHER INFORMATION CONTACT: Steven Cohen, NHTSA 400 Seventh Street, SW., Rm 5219 (NCC-10), Washington, DC 20590. Telephone number: (202) 366-5263.

SUPPLEMENTARY INFORMATION:

National Highway Traffic Safety Administration

Title: Criminal Penalty Safe Harbor Provision.

OMB Control Number: None assigned.

Frequency: We believe that there will be very few criminal prosecutions under section 30170, given its elements. Accordingly, it is not likely to be a substantial motivating force for a submission of a proper report. We estimate that no more than 9 persons a year would be subject to this new collection of information, and we do not anticipate receiving more than one report a year from any particular person.

Affected Public: This collection of information would apply to any person who seeks a “safe harbor” from potential criminal liability under 49 U.S.C. 30170. Thus, the collection of information could apply to the manufacturers, any officers or employees thereof, and other persons who respond or have a duty to respond to an information provision requirement pursuant to 49 U.S.C. 30166 or a regulation, requirement, request or order issued thereunder.

Abstract: NHTSA is publishing a rule related to “reasonable time” and sufficient manner of “correction,” as they apply to the safe harbor from criminal penalties, as required by Section 5 of the Transportation Recall Enhancement, Accountability, and Documentation (TREAD) Act (Pub. L. 106-414), enacted November 1, 2000.

Estimated Annual Burden: Using the above estimate of 9 respondents a year, with an estimated two hours of preparation to collect and provide the information, at an assumed rate of $20 an hour, the annual, estimated cost of collecting and preparing the information necessary for 9 complete “safe harbor” corrections is about $360. Adding in a postage cost of $3.06 (9 reports at a cost of 34 cents to mail each one), we estimate that it will cost $363.06 a year for persons to prepare and submit the information necessary to satisfy the safe harbor provision of 49 U.S.C. 30170.

Since nothing in this rule would require those persons who submit reports pursuant to this rule to keep copies of any records or reports submitted to us, the cost imposed to keep records would be zero hours and zero costs.

Number of Respondents: We estimate that there will be no more than 9 per year.

Summary of The Collection of Information: Any person seeking protection from criminal liability under 49 U.S.C. 30170 related to an improper report or failure to report pursuant to 49 U.S.C. 30166, or a regulation, requirement, request or order issued thereunder, will be required to report the following information to NHTSA: (1) each previous improper item of information or document and each failure to report that was required under 49 U.S.C. 30166, or a regulation, requirement, request or order issued thereunder, (2) the specific predicate under which each improper or omitted report should have been provided, and (3) the complete and correct reports, including all information that was improperly submitted or that should have been submitted and all relevant documents that were not previously submitted to NHTSA or, if the person cannot provide this, then a full detailed description of that information or of the content of those documents and the reason why the individual cannot provide them to NHTSA.

Issued on: December 18, 2000.
Frank Seales, Jr.,
Chief Counsel.

[FR Doc. 00-32581 Filed 12-20-00; 8:45 am]

BILLING CODE 4910-59-P